DEPARTMENT OF HEALTH AND HUMAN SERVICES

Notice of Establishment of the National Advisory Committee on Children and Disasters and Call for Nominees

AGENCY: Department of Health and Human Services, Office of the Secretary.

ACTION: Notice.

SUMMARY: The Department of Health and Human Services (HHS) Office of the Secretary announces establishment of the National Advisory Committee on Children and Disasters (NACCD). The Advisory Committee will provide advice and consultation to the HHS Secretary on pediatric medical disaster planning, preparedness, response, and recovery with respect to the medical and public health needs of children in relation to disasters. The Office of the Assistant Secretary for Preparedness and Response (ASPR) shall provide management and administrative oversight to support the activities of the Advisory Committee. The Office of the Secretary is accepting application submissions from qualified individuals who wish to be considered for membership on the NACCD. Up to six new voting members with expertise in pediatric medical disaster planning, preparedness, response, or recovery will be selected for the Committee in the following categories: Non-federal health care professionals and representatives from state, local, territorial, or tribal agencies. Please visit the NACCD Web site at www.phe.gov/naccd for all application submission information and instructions. Application submissions will be accepted for 30 calendar days from the date this posting is published in the Federal Register.

FOR FURTHER INFORMATION CONTACT: CAPT Charlotte Spires, DVM, MPH, DACVPM, Executive Director and Designated Federal Official, National Advisory Committee on Children and Disasters, Office of the Assistant Secretary for Preparedness and Response, U.S. Department of Health and Human Services, Thomas P. O'Neill Federal Building, Room number 14F18, 200 C St. SW., Washington, DC 20024; Office: 202-260-0627, Email address: charlotte.spires@hhs.gov.

SUPPLEMENTARY INFORMATION: Pursuant to the Federal Advisory Committee Act (FACA) of 1972 (5 U.S.C., Appendix, as amended), and section 2811A of the Public Health Service (PHS) Act (43 U.S.C. 300hh-10a), as added by section 103 of the Pandemic and All Hazards Preparedness Reauthorization Act of 2013 (Pub. L. 113-5), the HHS Secretary, in consultation with the Secretary of the U.S. Department of Homeland Security, established the National Advisory Committee on Children and Disasters (NACCD). The purpose of the NACCD is to provide advice and consultation to the HHS Secretary with respect to the medical and public health needs of children in relation to disasters. The Office of the Assistant Secretary for Preparedness and Response provides management and administrative oversight to support the activities of the NACCD.

Description of Duties: The NACCD: (1) Provides advice and consultation with respect to the activities addressing at-risk individuals carried out pursuant to section 2814 of the PHS Act as applicable and appropriate (42 U.S.C. 300hh-16); (2) evaluates and provides input with respect to the medical and public health needs of children as they relate to preparation for, response to, and recovery from all-hazards emergencies; (3) provides advice and consultation with respect to state emergency preparedness and response activities and children, including related drills and exercises pursuant to the preparedness goals under the National Health Security Strategy authorized under section 2802(b) of the PHS Act (42 U.S.C. 300hh-1); and (4) provides advice and recommendations to the HHS Secretary with respect to children and the medical and public health grants and cooperative agreements implementing the Public Health Emergency Preparedness and Hospital Preparedness Programs and other activities, as applicable to preparedness and response activities authorized under Titles III and XXVIII of the PHS Act (42 U.S.C. 241 et seq.).

Structure: The Advisory Committee consists of not more than 15 voting members, including the Chairperson. Members will be appointed by the HHS Secretary, in consultation with such other Secretaries as may be appropriate, from among the nation's preeminent scientific, public health, and medical experts in areas consistent with the purpose and functions of the NACCD. Individuals necessary to perform the duties of the NACCD may include:

• The Assistant Secretary for Preparedness and Response;

• The Director of the Biomedical Advanced Research and Development Authority;

• The Director of the Centers for Disease Control and Prevention;

• The Commissioner of Food and Drugs;

• The Director of the National Institutes of Health;

• The Assistant Secretary for the Administration for Children and Families;

• The Administrator of the Federal Emergency Management Agency;

• At least two non-federal health care professionals with expertise in pediatric medical disaster planning, preparedness, response, or recovery;

• At least two representatives from state, local, territorial, or tribal agencies with expertise in pediatric disaster planning, preparedness, response, or recovery; and

• Representatives from such federal agencies (such as the Department of Education and the Department of Homeland Security) as determined necessary to fulfill the duties of the Advisory Committee.

A member of the Advisory Committee will serve for a term of four years, except that the Secretary may adjust the terms of the initial Advisory Committee appointees in order to provide for a staggered term of appointment of all members. Members who are not full-time or permanent part-time federal employees shall be appointed by the Secretary as Special Government Employees (5 U.S.C. 3109).

Dated: January 10, 2014.
Nicole Lurie,
Assistant Secretary for Preparedness and Response, U.S. Department of Health and Human Services.

[FR Doc. 2014-00791 Filed 1-15-14; 8:45 am]

BILLING CODE 4150-37-P